DEPARTMENT OF THE INTERIOR

Bureau of Land Management

[LLAZP02000.L54100000.FR0000.LVCLA10A5180.241A; AZA 35501]

Notice of Realty Action: Conveyance of Federally Owned Mineral Interests in Pinal County, AZ

AGENCY: Bureau of Land Management, Interior.

ACTION: Notice.

SUMMARY: The surface owner, Lotocka, LLC, filed an application on September 22, 2010, for the conveyance of the federally owned mineral interests of a 459.60 acre tract of land in Pinal County, Arizona. Publication of this notice temporarily segregates the Federal mineral interests in the land covered by the application from appropriation under the public land laws, including the mining laws, for up to 2 years while the application is being processed.

DATES: Interested persons may submit written comments to the Bureau of Land Management (BLM) at the address listed below. Comments must be received no later than February 13, 2012.

ADDRESSES: BLM, Phoenix District Office, 21605 N. 7th Avenue, Phoenix, Arizona 85027. Detailed information concerning this application is available for review at this address.

FOR FURTHER INFORMATION CONTACT: Matthew Magaletti, Realty Specialist, BLM, Phoenix District Office, 21605 N. 7th Avenue, Phoenix, Arizona 85027, or phone (623) 580-5590. Persons who use a telecommunications device for the deaf (TDD) may call the Federal Information Relay Service (FIRS) at 1-(800) 877-8339 to contact the above individual during normal business hours. The FIRS is available 24 hours a day, 7 days a week, to leave a message or question for the above individual. You will receive a reply during normal business hours.

SUPPLEMENTARY INFORMATION: The tract of land referred to in this notice consists of 459.6 acres, situated in Pinal County, Arizona, and is described as follows:

Gila and Salt River Base and Meridian

T. 8 S., R. 10 E.,

Sec. 35, lots 1 to 4, inclusive, E½W½NW¼, N½S½, NE¼NW¼, S½NE¼, and SE¼NW¼.

The area described contains 459.60 acres in Pinal County.

Under certain conditions, Section 209(b) of the Federal Land Policy and Management Act of October 21, 1976, 43 U.S.C. 1719 authorizes the sale and conveyance of the federally owned mineral interests in land when the surface estate is not federally owned. The objective is to allow consolidation of the surface and mineral interests when either one of the following conditions exist: (1) There are no known mineral values in the land; or (2) Where continued Federal ownership of the mineral interests interferes with or precludes appropriate non-mineral development and such development is a more beneficial use of the land than mineral development.

An application was filed for the sale and conveyance of the federally owned mineral interests in the above-described tract of land. Subject to valid existing rights, on December 28, 2011 the federally owned mineral interests in the land described above are hereby segregated from all forms of appropriation under the public land laws, including the mining laws, while the application is being processed to determine if either one of the two specified conditions exists and, if so, to otherwise comply with the procedural requirements of 43 CFR part 2720. The segregative effect shall terminate upon: (1) Issuance of a patent or other document of conveyance as to such mineral interests; (2) Final rejection of the application; or December 30, 2013, whichever occurs first.

Comments: Your comments are invited. Please submit all comments in writing to Matthew Magaletti at the address listed above. Include your address, phone number, email address, or other personal identifying information in your comment. You should be aware that your entire comment, including your personal identifying information, may be made available to the public at any time. While you can ask in your comment to withhold your personal identifying information from public review, we cannot guarantee that we will be able to do so.

Authority: 43 CFR 2720.1-1(b).

Angelita Bulletts,
District Manager.

[FR Doc. 2011-33242 Filed 12-27-11; 8:45 am]

BILLING CODE 4310-32-P